SURFACE TRANSPORTATION BOARD

49 CFR Parts 1144 and 1145

[Docket No. EP 711 (Sub-No. 1)]

Reciprocal Switching

AGENCY: Surface Transportation Board.

ACTION: Proposed rule; closure of Docket No. EP 711 (Sub-docket No. 1).

SUMMARY: On July 27, 2016, in Docket No. EP 711 (Sub-No. 1), the Surface Transportation Board (Board or STB) proposed to revise its reciprocal switching regulations. After considering the full record and the developments in the freight rail industry, the Board has decided not to pursue those revisions and to close Docket No. EP 711 (Sub-No. 1). Instead, in Docket No. EP 711 (Sub-No. 2), the Board is proposing a new set of regulations that would provide access to reciprocal switching when there is inadequate service. The Board will continue to assess what other action, if any, the Board should take with respect to reciprocal switching.

DATES: September 18, 2023.

ADDRESSES: All filings must be submitted to the Surface Transportation Board either via e-filing on the Board's website or in writing addressed to 395 E Street SW, Washington, DC 20423-0001. Filings will be posted to the Board's website and need not be served on other commenters or any other party to the proceedings.

FOR FURTHER INFORMATION CONTACT: Valerie Quinn at (202) 740-5567. If you require accommodation under the Americans with Disabilities Act, please call (202) 245-0245.

SUPPLEMENTARY INFORMATION: On July 27, 2016, the Board granted in part a petition for rulemaking filed by the National Industrial Transportation League seeking revised reciprocal switching regulations. The Board proposed regulations in Docket No. EP 711 (Sub-No. 1) that would provide for prescription of a reciprocal switching agreement when either practicable and in the public interest or necessary to provide competitive rail service. Due to developments in the freight rail industry since the Board's 2016 notice, including critical and ongoing service problems, the Board has decided to focus, at this time, its reciprocal switching reforms on more specific and objective remedies for inadequate rail service. See Reciprocal Switching, EP 711 (Sub-No. 1) et al., slip op. at 1-21, 31 (STB served Sept. 7, 2023). See also id. at 7 n.8 (welcoming comment on what other actions, if any, the Board should consider with respect to competitive access and, in particular, whether the Board should further broaden the application of the public interest prong of 49 U.S.C. 11102). Accordingly, for the reasons discussed in Reciprocal Switching, the Board is closing Docket No. EP 711 (Sub-No. 1) and is instead proposing, in Docket No. EP 711 (Sub-No. 2), a new rule focused on more defined processes for the prescription of a reciprocal switching agreement in cases of inadequate service. Notice of the rule proposed in Docket No. EP 711 (Sub-No. 2) is being published concurrently with this notice. That concurrent notice includes the full discussion from the Board's September 7, 2023 decision, which is fully incorporated by reference herein.

It is ordered:

1. Docket No. EP 711 (Sub-No. 1) is discontinued as of the service date of the Board's decision in Reciprocal Switching, EP 711 (Sub-No. 1) et al.

Decided: September 13, 2023.
By the Board, Board Members Fuchs, Hedlund, Oberman, Primus, and Schultz.
Jeffrey Herzig,
Clearance Clerk.

[FR Doc. 2023-20137 Filed 9-15-23; 8:45 am]

BILLING CODE 4915-01-P